DEPARTMENT OF HOMELAND SECURITY

Coast Guard

33 CFR Part 165

[Docket No. USCG-2018-1057]

RIN 1625-AA00

Extension of Comment Period for the Safety Zone; Gastineau Channel, Juneau, AK

Correction

Proposed rule document 2019-07192 appearing on pages 14663-14664 in the issue of April 11, 2019 was inadvertently published in the Notice section.

(1) The document should have appeared in the Proposed Rule section.

(2) On page 14663, in the third column, the heading is corrected to read as set forth above.

[FR Doc. C1-2019-07192 Filed 5-8-19; 8:45 am]

BILLING CODE 1301-00-D